DEPARTMENT OF HEALTH AND HUMAN SERVICES

Agency for Toxic Substances and Disease Registry

[Program Announcement 03084]

A Pilot Program To Educate Vulnerable Populations About Fish Advisories in Michigan; Notice of Availability of Funds

Application Deadline: July 21, 2003.

A. Authority and Catalog of Federal Domestic Assistance Number

This program is authorized under sections 104(i)(1)(E) and (15) of the Comprehensive Environmental Response, Compensation, and Liability Act of 1980 (CERCLA), as amended by the Superfund Amendments and Reauthorization Act of 1986 (SARA) (42 U.S.C. 9604(i)(1)(E) and (15)). The Catalog of Federal Domestic Assistance number is 93.208.

B. Purpose

The Agency for Toxic Substances and Disease Registry (ATSDR) announces the availability of fiscal year (FY) 2003 funds for a grant program for A Pilot Program to Educate Vulnerable Populations about Fish Advisories in Michigan. This program addresses the “Healthy People 2010” focus area(s) of Educational and Community-Based Programs, Environmental Health, and Maternal, Infant, and Child Health.

The purpose of the program is to conduct community-based research to assess the knowledge of and adherence to fish health advisories in vulnerable populations who reside in the Upper Peninsula of the state of Michigan. These vulnerable populations would include such populations as American Indians, sport and subsistence anglers, pregnant women, young children, and the elderly.

The Upper Peninsula area has a specific need for health education about fish advisories. Many residents fall in the vulnerable groups of reproductive-age men and women, sport and subsistence anglers and their families, and minorities, including the various tribal groups in the Upper Peninsula. In addition, many of the residents depend heavily on sport fish as a subsistence food. Because the population is spread out over a large and often remote area, the process of educating people there is difficult.

ATSDR encourages collaborative research efforts among potential applicants as well as the inclusion of community members and community organizations as partners in this pilot program.

Measurable outcomes of the program will be in alignment with one or more of the following performance goals for the Agency for Toxic Substances and Disease Registry (ATSDR): (1) Develop and provide reliable, understandable information for affected communities, tribes, and stakeholders, and (2) Build and enhance effective partnerships.

C. Eligible Applicants

Eligible applicants are political subdivisions of the state of Michigan, including federally recognized Indian tribal governments and tribal organizations. State organizations, including State universities, State colleges, and State research institutions, must affirmatively establish that they meet the State's legislative definition of a State entity or political subdivision to be considered an eligible applicant.

Note: Title 2 of the United States Code section 1611 states that an organization described in section 501c(4) of the Internal Revenue Code that engages in lobbying activities is not eligible to receive Federal funds constituting an award, grant or loan.

D. Funding

Availability of Funds

Approximately $300,000 is available in FY 2003 to fund two awards. It is expected that the award will begin on or about September 15, 2003, and will be made for a 12-month budget period within a project period of up to three years. Funding estimates may change.

Continuation awards within an approved project period will be made on the basis of satisfactory progress as evidenced by required reports and the availability of funds.

Use of Funds

Funds may be expended for reasonable program purposes, such as personnel, travel, supplies and services. Funds for contractual services may be requested; however, the grantee, as the direct and primary recipient of ATSDR grant funds, must perform a substantive role in carrying out project activities, and not merely serve as a conduit for an award to another party or provide funds to an ineligible party. Equipment may be purchased with grant funds. However, the equipment proposed should be appropriate and reasonable for the research activity to be conducted. Property may be acquired only when authorized in the grant. The grantee, as part of the application process, should provide a justification of need to acquire property, the description, and the cost purchase versus lease. At the completion of the project, the equipment must be returned to ATSDR.

Recipient Financial Participation

Matching funds are not required for this program.

Funding Preferences

The funding preference is a state entity or political subdivision with a close working relationship with tribal governments and tribal organizations as evidenced by letters of support.

E. Program Requirements

In conducting activities to achieve the purpose of this program, the recipient will be responsible for the following priority areas of research which include:

1. Identifying the barriers (including specific cultural practices) to following current fish consumption advisories and fish preparation guidelines among vulnerable populations.

2. Engaging vulnerable community members and institutions in identifying more effective communication channels for fish advisories that recognize and work within existing cultural practices.

3. Designing new targeted fish advisory interventions incorporating effective communication channels, dissemination methods, and community programs.

4. Implementing and assessing the effectiveness of pilot program messages, communications channels, and community-based educational programs in increasing the effectiveness of fish advisories among vulnerable populations.

5. Sharing the results of the pilot program for broader replication in the Great Lakes region.

F. Content

Letter of Intent (LOI)

A LOI is optional for this program. The Program Announcement title and number must appear in the LOI. The narrative should be no more than two pages, single-spaced, printed on one side, with one-inch margins, and unreduced 12-point font. Your letter of intent will be used to determine level of interest in the announcement, and should include the following information: (1) Investigator's name and affiliation, (2) brief description of the research project, and (3) estimated cost.

Applications

The Program Announcement title and number must appear in the application. Use the information in the Program Requirements, Other Requirements, and Evaluation Criteria sections to develop the application content. Your application will be evaluated on the criteria listed, so it is important to follow them in laying out your program plan. The narrative should be no more than 25 pages, double-spaced, printed on one side, with one-inch margins, and unreduced 12-point font.

The narrative should consist of: (1) Proposed research, (2) Objectives, (3) Methods and procedures, (4) Three-Year Timetable for research activities, (5) Proposed personnel, and (6) Budget.

G. Submission and Deadline

Letter of Intent (LOI) Submission:

On or before June 25, 2003, submit the LOI to the Grants Management Specialist identified in the “Where to Obtain Additional Information” section of this announcement.

Application Forms

Submit the signed original and two copies of PHS-398. Forms are available at the following Internet address: http://www.cdc.gov/od/pgo/forminfo.htm.

Follow the instructions in the Errata sheet (posted on the CDC web site) for PHS-398. If you do not have access to the Internet, or if you have difficulty accessing the forms on-line, you may contact the CDC Procurement and Grants Office Technical Information Management Section (PGO-TIM) at: 770-488-2700. Application forms can be mailed to you.

Submission Date, Time, and Address

The application must be received by 4 p.m. Eastern Time July 21, 2003. Submit the application to: Technical Information Management-PA#03084, CDC Procurement and Grants Office, 2920 Brandywine Road, Atlanta, GA 30341-4146.

Applications may not be submitted electronically.

CDC Acknowledgement of Application Receipt

A postcard will be mailed by PGO-TIM, notifying you that CDC has received your application.

Deadline

Letters of intent and applications shall be considered as meeting the deadline if they are received before 4 p.m. Eastern Time on the deadline date. Any applicant who sends their application by the United States Postal Service or commercial delivery services must ensure that the carrier will be able to guarantee delivery of the application by the closing date and time. If an application is received after closing due to (1) carrier error, when the carrier accepted the package with a guarantee for delivery by the closing date and time, or (2) significant weather delays or natural disasters, CDC will upon receipt of proper documentation, consider the application as having been received by the deadline.

Any application that does not meet the above criteria will not be eligible for competition, and will be discarded. The applicant will be notified of their failure to meet the submission requirements.

H. Evaluation Criteria

Application

Applicants are required to provide measures of effectiveness that will demonstrate the accomplishment of the various identified priority areas of research of the grant. Measures of effectiveness must relate to the performance goals stated in the purpose section of this announcement. Measures must be objective and quantitative and must measure the intended outcome. These measures of effectiveness must be submitted with the application and will be an element of evaluation.

An independent review group appointed by ATSDR will evaluate each application against the following criteria:

1. Proposed Research—60 percent

The extent to which the applicant's project addresses:

a. The scientific merit of the hypothesis of the proposed project, including the originality of the approach and the feasibility, adequacy, and rationale of the design (the design of the study should ensure statistical validity for comparison with other research projects).

b. The technical merit of the methods and procedures (analytic procedures should be state of the art), including the degree to which the project can be expected to yield results that meet the program objective as described in the Purpose section of this announcement.

c. The proposed project schedule, including clearly established and obtainable project objectives for which progress toward attainment can and will be measured.

d. The proposed mechanism to be utilized as a resource to address community concerns and opinion, and create lines of communication.

e. The prooposed method to disseminate the study results to State and local public health officials, tribal governments, Indian Health Service, community residents, and to other concerned individuals and organizations.

f. The degree to which the applicant has met the CDC Policy requirements regarding the inclusion of women, ethnic, and racial groups in the proposed research. This includes:

(1) The proposed plan for the inclusion of both sexes and racial and ethnic minority populations for appropriate representation.

(2) The proposed justification when representation is limited or absent.

(3) A statement as to whether the design of the study is adequate to measure differences when warranted.

(4) A statement as to whether the plans for recruitment and outreach for study participants include the process of establishing partnerships with community(ies) and recognition of mutual benefits.

2. Program Personnel—30 percent

The extent to which the proposal has described:

a. The qualifications, experience, and commitment of the Principal Investigator, and his/her ability to devote adequate time and effort to provide effective leadership.

b. The competence of associate investigators to accomplish the proposed study, their commitment, and time devoted to the study.

3. Applicant Capability—10 percent

Description of the adequacy and commitment of the institutional resources to administer the program and the adequacy of the facilities as they impact on performance of the proposed study.

4. Program Budget—(Not Scored)

The extent to which the budget is reasonable, clearly justified, and consistent with intended use of grant funds.

5. Human Subjects—(Not Scored)

Does the application adequately address the requirements of Title 45 CFR part 46 for the protection of human subjects? Not scored; however, an application can be disapproved if the research risks are sufficiently serious and protection against risks is so inadequate as to make the entire application unacceptable.

I. Other Requirements

Technical Reporting Requirements

Provide CDC with original plus two copies of:

(a) An Interim progress report, due June 15th. The progress report will serve as your non-competing continuation application, and must contain the following elements:

(1) Current Budget Period Activities Objectives.

(2) Current Budget Period Financial Progress.

(3) New Budget Period Program Proposed Activity Objectives.

(4) Detailed Line-Item Budget and Justification.

(5) Additional Requested Information.

(b) Financial status report, due no later than 90 days, after the end of the budget period.

(c) Final financial and performance reports, due no later than 90 days after the end of the project period.

Send all reports to the Grants Management Specialist identified in the “Where to Obtain Additional Information” section of this announcement.

Additional Requirements

The following additional requirements are applicable to this program.

AR-1 Human Subjects Requirements

AR-2 Requirements for Inclusion of Women and Racial and Ethnic Minorities in Research

AR-3 Animal Subjects Requirements

AR-7 Executive Order 12372 Review

AR-9 Paperwork Reduction Act Requirements *

AR-10 Smoke-Free Workplace Requirements

AR-11 Healthy People 2010

AR-12 Lobby Restrictions

AR-17 Peer and Technical Reviews of Final Reports of Health Studies—ATSDR

AR-18 Cost Recovery—ATSDR

AR-19 Third Party Agreements

For a complete description of each, see Attachment I of the program announcement, as posted on the CDC Web site.

* OMB Clearance under the Paperwork Reduction Act is not required for this program.

J. Where To Obtain Additional Information

This and other CDC announcements, the necessary applications, and associated forms can be found on the CDC Web site, Internet address: http://www.cdc.gov. Click on “Funding” then “Grants and Cooperative Agreements”.

For general questions about this announcement, contact: Technical Information Management, CDC Procurement and Grants Office, 2920 Brandywine Road, Atlanta, GA 30341-4146, Telephone: 770-488-2700.

For business management and budget assistance, contact: Ms. Edna Green, Grant Management Specialist, Procurement and Grants Office, Centers for Disease Control and Prevention, 2920 Brandywine Road, Atlanta, GA 30341-4146, Telephone: (770) 488-2743, E-mail address: ECG4@cdc.gov.

For program technical assistance, contact: Dr. Heraline E. Hicks, Research Implementation Branch, Division of Toxicology, 1600 Clifton Road, NE., Mail Stop E29, Atlanta, Georgia 30333, Telephone: (404) 498-0717, E-mail address: HEH2@cdc.gov.

Dated: May 30, 2003.
Edward Schultz,
Acting Director, Procurement and Grants Office, Centers for Disease Control and Prevention.

[FR Doc. 03-14129 Filed 6-4-03; 8:45 am]

BILLING CODE 4163-70-P